DEPARTMENT OF DEFENSE

Defense Acquisition Regulations System

Suspension of the Price Evaluation Adjustment for Small Disadvantaged Businesses

AGENCY: Defense Acquisition Regulations System, Department of Defense (DoD).

ACTION: Notice of 1-year suspension of the price evaluation adjustment for small disadvantaged businesses.

SUMMARY: The Director of Defense Procurement and Acquisition Policy has suspended the use of the price evaluation adjustment for small disadvantaged businesses (SDBs) in DoD procurements, as required by 10 U.S.C. 2323(e)(3), because DoD exceeded its 5 percent goal for contract awards to SDBs in fiscal year 2006. The suspension will be in effect for 1 year and will be reevaluated based on the level of DoD contract awards to SDBs achieved in fiscal year 2007.

DATES: Effective Date: March 10, 2007.

Applicability Date: This suspension applies to all solicitations issued during the period from March 10, 2007, to March 9, 2008.

FOR FURTHER INFORMATION CONTACT: Ms. Susan Pollack, Defense Procurement and Acquisition Policy, OUSD(AT&L)DPAP(P), 3015 Defense Pentagon, Washington, DC 20301-3015; telephone (703) 697-8336; facsimile (703) 614-1254.

SUPPLEMENTARY INFORMATION: Pursuant to the authority granted in 10 U.S.C. 2323(e), DoD has previously granted SDBs a 10 percent price preference in certain acquisitions. This price preference is implemented in Subpart 19.11 of the Federal Acquisition Regulation. Section 801 of the Strom Thurmond National Defense Authorization Act for Fiscal Year 1999 (Public Law 105-261) amended 10 U.S.C. 2323(e)(3) to prohibit DoD from granting such a price preference for a 1-year period following a fiscal year in which DoD achieved the 5 percent goal for contract awards established in 10 U.S.C. 2323(a). Since, in fiscal year 2006, DoD exceeded this 5 percent goal, use of this price preference in DoD acquisitions must be suspended for a 1-year period, from March 10, 2007, to March 9, 2008.

Michele P. Peterson,
Editor, Defense Acquisition Regulations System.

[FR Doc. E7-2687 Filed 2-14-07; 8:45 am]

BILLING CODE 5001-08-P